DEPARTMENT OF LABOR

Department of Energy Facilities Covered Under the Energy Employees Occupational Illness Compensation Program Act of 2000, as Amended

AGENCY: Office of Workers' Compensation Programs, Labor.

ACTION: Notice of revision of listing of covered Department of Energy facilities.

SUMMARY: The Office of Workers' Compensation Programs (OWCP) is publishing a list of Department of Energy (DOE) facilities covered under the Energy Employees Occupational Illness Compensation Program Act of 2000, as amended (EEOICPA). This notice revises and republishes the listing of DOE facilities that was last published by OWCP on March 6, 2012 (77 FR 13360) to include an additional determination made on this subject through April 5, 2013.

FOR FURTHER INFORMATION CONTACT: Rachel P. Leiton, Director, Division of Energy Employees Occupational Illness Compensation, Office of Workers' Compensation Programs, U.S. Department of Labor, Room C-3321, 200 Constitution Avenue NW., Washington, DC 20210. Telephone: 202-693-0081 (this is not a toll-free number).

ADDRESSES: OWCP welcomes comments regarding this list. Individuals who wish to suggest changes to this list may provide information to OWCP at the following address: U.S. Department of Labor, Office of Workers' Compensation Programs, Division of Energy Employees Occupational Illness Compensation, Room C-3321, 200 Constitution Avenue NW., Washington, DC 20210. You may also suggest changes to this list by email at DEEOIC-Public@dol.gov. You should include “DOE facilities list” in the subject line of any email containing comments on this list.

SUPPLEMENTARY INFORMATION:

I. Background

The Energy Employees Occupational Illness Compensation Program Act of 2000, as amended (42 U.S.C. 7384 et seq.), was originally enacted on October 30, 2000, and the primary responsibility for administering EEOICPA was assigned to the Department of Labor (DOL) by Executive Order 13179 (65 FR 77487). In section 2(c)(vii) of that Executive Order, DOE was directed to publish a list in the Federal Register of Atomic Weapons Employer (AWE) facilities, DOE facilities, and facilities owned and operated by a Beryllium Vendor (as those terms are defined in sections 73841(5), 73841(12) and 73841(6) of EEOICPA, respectively). Pursuant to this direction, DOE published a list of these three types of facilities covered under EEOICPA on January 17, 2001 (66 FR 4003), and subsequently revised and republished the entire list on June 11, 2001 (66 FR 31218), December 27, 2002 (67 FR 79068), July 21, 2003 (68 FR 43095) and August 23, 2004 (69 FR 51825). In subsequent notices published on November 30, 2005 (70 FR 71815), June 28, 2007 (72 FR 35448), April 9, 2009 (74 FR 16191), August 3, 2010 (75 FR 45608), May 26, 2011 (76 FR 30695), February 6, 2012 (77 FR 5781) and February 11, 2013 (78 FR 9678), DOE further revised the August 23, 2004 list by formally removing a total of 16 AWE facilities without republishing the list in its entirety.

Following the amendments to EEOICPA that were enacted as subtitle E of Title XXXI of the Ronald W. Reagan National Defense Authorization Act for Fiscal Year 2005, Public Law 108-375, 118 Stat. 1811, 2178 (October 28, 2004), OWCP promulgated final regulations governing its expanded responsibilities under EEOICPA on December 29, 2006 (71 FR 78520). One of those regulations, 20 CFR 30.5(x)(2), indicates that OWCP has adopted the list of DOE facilities that was published by DOE on August 23, 2004, and notes that OWCP “will periodically update this list as it deems appropriate in its sole discretion by publishing a revised list of covered [DOE] facilities in the Federal Register.” In making these updates, § 30.5(x)(1) specifies that the Director of OWCP is solely responsible for determining if a particular work site under consideration meets the statutory definition of a Department of Energy facility. This sole responsibility is derived from the grant of primary authority to DOL to administer the EEOICPA claims process contained in section 2(a)(i) of Executive Order 13179.

II. Purpose

Since OWCP last published a notice listing all DOE facilities covered under EEOICPA in the March 6, 2012 Federal Register, the Director of OWCP has determined that the Adrian Facility, located at 1450 E. Beecher Street in Adrian, Michigan, meets the statutory definition of a Department of Energy facility for the purposes of claims filed under EEOICPA. This determination has been memorialized in the two updated lists of DOE facilities published by OWCP today, and is based on the finding that the Bridgeport Brass Company was a DOE contractor that performed operations at that location for the Atomic Energy Commission.

By updating the two lists found below, OWCP is presenting the public with the most current listing of DOE facilities in order to assist potential claimants and their families. OWCP is continuing its efforts in this area as it adjudicates claims filed under EEOICPA, and further revisions of these lists should be expected. Although DOE maintains a Web site (http://www.hss.energy.gov/healthsafety/fwsp/advocacy/faclist/findfacility.cfm) that provides information on AWE facilities, Beryllium Vendor facilities and DOE facilities to the public, the information on that Web site regarding DOE facilities should not be relied upon as it may not be up to date, nor is it binding on OWCP's adjudication of claims filed under EEOICPA. Instead, OWCP is solely authorized to give the public notice of the Director's determinations regarding DOE facilities.

III. Introduction to the Lists

The five complete lists previously published by DOE included all three types of work sites described in Executive Order 13179, i.e., AWE facilities, Beryllium Vendor facilities, and DOE facilities. On the other hand, the lists published on June 23, 2009, November 24, 2010, March 6, 2012 and again today by OWCP only include work sites that meet the definition of a Department of Energy facility, because the authority to designate both AWE facilities and Beryllium Vendor facilities has been granted to DOE. However, since some work sites can meet the definition of more than just one type of covered work site during either the same or differing time periods, simply presenting one list of DOE facilities (without also differentiating among them in some easily understood fashion) could lead the reader to wrongly conclude that a listed work site has always been a DOE facility when, in fact, it only had that status during a brief period. To lessen the potential for this type of misunderstanding, OWCP has decided to continue its practice of presenting two separate lists of DOE facilities.

The first list consists exclusively of work sites that have only been DOE facilities for purposes of coverage under EEOICPA, and the second list consists of work sites that have also been at least one other type of covered work site in addition to a DOE facility. To see what other types of covered work sites the DOE facilities appearing in the second list are or have been, readers can refer to the Federal Register notices published by DOE on August 23, 2004 (69 FR 51825), November 30, 2005 (70 FR 71815), June 28, 2007 (72 FR 35448), April 9, 2009 (74 FR 16191), August 3, 2010 (75 FR 45608), May 26, 2011 (76 FR 30695), February 6, 2012 (77 FR 5781) and February 11, 2013 (78 FR 9678). Since covered time periods for a particular DOE facility are statutorily limited to periods during which “operations” are or were performed by or on behalf of DOE (or its predecessor agencies) at that DOE facility, and when DOE (or its predecessor agencies) either had a proprietary interest in the facility or had entered into a particular type of contract with an entity regarding the facility, the lists below include date ranges during which covered employment at each work site could have been performed. These date ranges, however, often do not reflect the exact day and month that a work site either acquired or lost its status as a DOE facility, and are not considered binding on OWCP in its adjudication of individual claims under EEOICPA. Rather, they are presented in this notice for the sole purpose of informing the public of the current results of OWCP's research into the operational histories of these work sites, some of which extend back to the establishment of the Manhattan Engineer District of the U.S. Army Corps of Engineers on August 13, 1942. OWCP's efforts in this area are continuing, and it expects that the date ranges included in this notice will change with the publication of future notices.

DOE facilities appearing on the lists that have undergone environmental remediation at the direction of or directly by DOE are identified by the following symbol—†—after the date range during which such environmental remediation occurred. During those periods, only the work of employees of DOE contractors who actually performed the remediation is “covered work” under EEOICPA.

List 1: Work Sites That Are/Were DOE Facilities Exclusively

Facility name | Location | Dates
Amchitka Island Nuclear Explosion Site | Amchitka Island | 1965-9/1973; 5/25/2001-10/13/2001 †.
Project Chariot Site | Cape Thompson | 1962; 1993 †.
California DOE Facilities
Area IV of the Santa Susanna Field Laboratory | Ventura County | 1955-1988; 1988-Present †.
Canoga Complex | Los Angeles County | 1955-1960.
De Soto Complex | Los Angeles County | 1959-1995; 1998 †.
Downey Facility | Los Angeles County | 1948-1955.
High Energy Rate Forging (HERF) Facility | Oxnard | 1984-6/30/1997.
Laboratory for Energy-Related Health Research, University of California (Davis) | Davis | 1958-1989; 1991-Present †.
Laboratory of Biomedical and Environmental Sciences, University of California (Los Angeles) | Los Angeles | 1947-Present.
Laboratory of Radiobiology and Environmental Health, University of California (San Francisco) | San Francisco | 1951-1999.
Lawrence Berkeley National Laboratory | Berkeley | 8/13/1942-Present.
Lawrence Livermore National Laboratory | Livermore | 1950-Present.
Sandia National Laboratories, Salton Sea Test Base | Imperial County | 1946-1961.
Sandia National Laboratories-Livermore | Livermore | 1956-Present.
Stanford Linear Accelerator Center, Stanford University | Palo Alto | 1962-Present.
Colorado DOE Facilities
Grand Junction Operations Office | Grand Junction | 8/1943-10/2001; 11/2001-Present †.
Project Rio Blanco Nuclear Explosion Site | Rifle | 1973-1976.
Project Rulison Nuclear Explosion Site | Grand Valley | 1969-1971; 1972-1978 †.
Rocky Flats Plant | Golden | 1951-2006.
Florida DOE Facilities
Pinellas Plant | Clearwater | 1957-1997.
Hawaii DOE Facilities
Kauai Test Facility, U.S. Navy Pacific Missile Range | Kauai | 1962-Present.
Idaho DOE Facilities
Argonne National Laboratory-West | Scoville | 1949-2005.
Idaho National Laboratory | Scoville | 1949-Present.
Illinois DOE Facilities
Argonne National Laboratory-East | Argonne | 1946-Present.
Fermi National Accelerator Laboratory | Batavia | 1972-Present.
Indiana DOE Facilities
Dana Heavy Water Plant | Dana | 1943-5/1957.
Iowa DOE Facilities
Ames Laboratory, Iowa State University | Ames | 8/13/1942-Present.
Iowa Ordnance Plant (Line 1 and Associated Activities) | Burlington | 1947-1974.
Kentucky DOE Facilities
Paducah Gaseous Diffusion Plant | Paducah | 1951-7/28/98; 7/29/98-Present †.
Massachusetts DOE Facilities
Winchester Engineering and Analytical Center | Winchester | 1952-1961.
Michigan DOE Facilities
Adrian Facility | Adrian | 5/25/54-1962; 1995 †.
Minnesota DOE Facilities
Elk River Reactor | Elk River | 1962-1968.
Mississippi DOE Facilities
Salmon Nuclear Explosion Site | Hattiesburg | 1964-6/29/1972.
Missouri DOE Facilities
Kansas City Plant | Kansas City | 11/5/1948-Present.
Mallinckrodt Chemical Co., Destrehan Street Facility | St. Louis | 8/13/1942-1962; 1995 †.
St. Louis Airport Storage Site (SLAPS) | St. Louis | 1/3/1947-1973; 1984-1998.
Weldon Spring Plant | Weldon Spring | 1955-1966; 10/1/1985-2002 †.
Weldon Spring Quarry | Weldon Spring | 1958-1966; 1967-10/2002 †.
Weldon Spring Raffinate Pits | Weldon Spring | 1955-1966; 1967-2002 †.
Nebraska DOE Facilities
Hallam Sodium Graphite Reactor | Hallam | 1960-1971.
Nevada DOE Facilities
Nevada Site Office | North Las Vegas | 3/6/1962-Present.
Nevada Test Site | Mercury | 1951-Present.
Project Faultless Nuclear Explosion Site | Central Nevada Test Site | 1967-1974.
Project Shoal Nuclear Explosion Site | Fallon | 1962-1/31/1964.
Tonopah Test Range | Tonopah | 1956-Present.
Yucca Mountain Site Characterization Project | Yucca Mountain | 1987-Present.
New Jersey DOE Facilities
Middlesex Sampling Plant | Middlesex | 1943-1967; 1980-1982 †.
New Brunswick Laboratory | New Brunswick | 1948-1977.
Princeton Plasma Physics Laboratory, James Forrestal Campus of Princeton University | Princeton | 1951-Present.
New Mexico DOE Facilities
Albuquerque Operations Office | Albuquerque | 8/13/1942-Present.
Chupadera Mesa | White Sands Missile Range | 1945.
Hangar 481, Kirtland AFB | Albuquerque | 3/1/1989-2/29/1996.
Kirtland Operations Office, Kirtland AFB | Albuquerque | 1964-Present.
Los Alamos Medical Center | Los Alamos | 1952-1963.
Los Alamos National Laboratory | Los Alamos | 8/13/1942-Present.
Lovelace Respiratory Research Institute, Kirtland AFB | Albuquerque | 1960-Present.
Project Gasbuggy Nuclear Explosion Site | Farmington | 2/11/1967-1973; 1978; 1992-Present †.
Project Gnome Nuclear Explosion Site | Carlsbad | 7/1/1960-6/1962.
Sandia National Laboratories | Albuquerque | 1945-Present.
South Albuquerque Works | Albuquerque | 1951-1967.
Trinity Nuclear Explosion Site, Alamogordo Bombing and Gunnery Range | White Sands Missile Range | 1945; 1952 †; 1967 †.
Waste Isolation Pilot Plant | Carlsbad | 3/26/1999-Present.
New York DOE Facilities
Brookhaven National Laboratory | Upton | 1947-Present.
Electro Metallurgical Co. | Niagara Falls | 8/13/1942-1953.
Environmental Measurements Laboratory | New York | 1946-2003.
Lake Ontario Ordnance Works | Niagara County | 1944-1997.
Linde Ceramics Plant (Buildings 30, 31, 37 and 38 only) | Tonawanda | 11/16/1942-1953; 1988-1992 †; 1996 †.
Peek Street Facility (Knolls Atomic Power Laboratory) | Schenectady | 1947-1954.
Sacandaga Facility | Glenville | 1947-1953.
SAM Laboratories, Columbia University | New York | 8/13/1942-1947.
Separations Process Research Unit (Knolls Atomic Power Laboratory) | Schenectady | 1950-1965; 2007-2011 †.
University of Rochester Atomic Energy Project | Rochester | 1943-1986.
Ohio DOE Facilities
Extrusion Plant (Reactive Metals Inc.) | Ashtabula | 1962-Present.
Feed Materials Production Center (FMPC) | Fernald | 1951-Present.
Dayton Project (Units I, III and IV only) | Dayton and Oakwood | 7/14/1943-1950.
Mound Plant | Miamisburg | 1947-Present.
Piqua Organic Moderated Reactor | Piqua | 1963-1969.
Portsmouth Gaseous Diffusion Plant | Piketon | 1952-7/28/98; 7/29/98-Present †.
Oregon DOE Facilities
Albany Metallurgical Research Center, U.S. Bureau of Mines | Albany | 1987-1993 †; 1995-Present.
Pennsylvania DOE Facilities
Shippingport Atomic Power Plant | Shippingport | 1984-1995 †.
Puerto Rico DOE Facilities
BONUS Reactor Plant | Punta Higuera | 1964-1968.
Puerto Rico Nuclear Center | Mayaguez | 1957-1976; 1987 †.
South Carolina DOE Facilities
Savannah River Site | Aiken | 1950-Present.
Tennessee DOE Facilities
Clarksville Modification Center, Ft. Campbell | Clarksville | 1949-1967.
Clinton Engineer Works (CEW) | Oak Ridge | 1943-1949.
Oak Ridge Gaseous Diffusion Plant (K-25) | Oak Ridge | 1943-1987; 1988-Present †.
Oak Ridge Hospital | Oak Ridge | 1943-1959.
Oak Ridge Institute for Science Education | Oak Ridge | 1946-Present.
Oak Ridge National Laboratory (X-10) | Oak Ridge | 1943-Present.
Office of Scientific and Technical Information (OSTI) | Oak Ridge | 1957-Present.
S-50 Oak Ridge Thermal Diffusion Plant | Oak Ridge | 1944-1951.
Y-12 Plant | Oak Ridge | 8/13/1942-Present.
Texas DOE Facilities
Medina Modification Center | San Antonio | 1958-1966.
Pantex Plant | Amarillo | 1951-Present.
Virginia DOE Facilities
Thomas Jefferson National Accelerator Facility | Newport News | 1994-Present.
Washington DOE Facilities
Hanford Engineer Works | Richland | 8/13/1942-Present.
Pacific Northwest National Laboratory | Richland | 1965-Present.
West Virginia DOE Facilities
Reduction Pilot Plant | Huntington | 1951-1963; 1978-1979.
Wisconsin DOE Facilities
LaCrosse Boiling Water Reactor | LaCrosse | 1967-1969.
Territorial DOE Facilities
Pacific Proving Ground | Bikini and Enewetak Atolls (now part of the Republic of the Marshall Islands), Johnston Island and Christmas Island | 1946-1962.

List 2: Work Sites That Are/Were DOE Facilities (for the Years Identified in the Last Column Only) and Also Another Type of EEOICPA-Covered Facility

Facility name | Location | Dates
Arizona DOE Facilities
Ore Buying Station at Globe | Globe | 7/1955-1957.
Uranium Mill in Monument Valley | Monument Valley | 5/1989-2/1990 †; 9/1992-5/1994 †.
Uranium Mill in Tuba City | Tuba City | 1/1985-2/1986 †; 1/1988-4/1990 †.
California DOE Facilities
General Atomics (Torrey Pines Mesa and Sorrento West) | La Jolla | 1996-1999 †.
General Electric Vallecitos | Pleasanton | 1998-6/7/2010 †.
Colorado DOE Facilities
Climax Uranium Mill in Grand Junction | Grand Junction | 12/1988-8/1994 †.
Green Sludge Plant in Uravan | Uravan | 1943-1945.
New Uranium Mill in Rifle | Rifle | 9/1988-9/1989 †; 4/1992-10/1996 †.
Old Uranium Mill in Rifle | Rifle | 9/1988-9/1989 †; 4/1992-10/1996 †.
Uranium Mill in Durango | Durango | 1948-1953; 10/1986-5/1991 †.
Uranium Mill in Gunnison | Gunnison | 9/1991-12/1995 †.
Uranium Mill in Maybell | Maybell | 5/1995-9/1998 †.
Uranium Mill in Naturita | Naturita | 5/1994-11/1994 †; 6/1996-9/1998 †.
Uranium Mill No. 1 in Slick Rock (East) | Slick Rock | 1995-1996 †.
Uranium Mill No. 2 in Slick Rock (West) | Slick Rock | 1995-1996 †.
Connecticut DOE Facilities
Connecticut Aircraft Nuclear Engine Laboratory (CANEL) | Middletown | 1958-7/8/1966.
Seymour Specialty Wire | Seymour | 1992-1993 †.
Idaho DOE Facilities
Uranium Mill in Lowman | Lowman | 1992 †; 1994-Present.
Illinois DOE Facilities
General Steel Industries (South Plant) | Granite City | 1993 †.
Metallurgical Laboratory, University of Chicago (Eckhart Hall, Jones Laboratory and Ryerson Hall only) | Chicago | 1982-1984 †; 1987 †.
National Guard Armory (Washington Park Armory) | Chicago | 1987 †.
Massachusetts DOE Facilities
Chapman Valve Manufacturing Co | Indian Orchard | 1995 †.
Hood Building | Cambridge | 1946-1963.
Ventron Corporation | Beverly | 1986 †; 1996-1997 †.
Missouri DOE Facilities
Latty Avenue Properties | Hazelwood | 1984-1986 †.
New Jersey DOE Facilities
Du Pont Deepwater Works | Deepwater | 1996 †.
Kellex/Pierpont | Jersey City | 1979-1980 †.
Middlesex Municipal Landfill | Middlesex | 1984 †; 1986 †.
Rare Earths/W.R. Grace | Wayne | 1985-1987 †.
New Mexico DOE Facilities
Ore Buying Station at Grants | Grants | 7/1956-1958.
Ore Buying Station at Shiprock | Shiprock | 7/1952-1/1954.
Uranium Mill in Ambrosia Lake | Ambrosia Lake | 7/1987-4/1989 †; 10/1992-7/1995 †.
Uranium Mill in Shiprock | Shiprock | 10/1984-11/1986 †.
New York DOE Facilities
Baker and Williams Warehouses (Pier 38) | New York | 1991-1993 †.
Colonie Interim Storage Site (National Lead Co.) | Colonie | 1984-1998 †.
West Valley Demonstration Project | West Valley | 1980-Present.
Ohio DOE Facilities
Alba Craft | Oxford | 1994-1995 †.
Associated Aircraft Tool and Manufacturing Co | Fairfield | 1994-1995 †.
B & T Metals | Columbus | 1996 †.
Baker Brothers | Toledo | 1995 †.
Battelle Laboratories—King Avenue | Columbus | 1986-2000 †.
Battelle Laboratories—West Jefferson | Columbus | 1986-Present †.
Beryllium Production Plant (Brush Luckey Plant) | Luckey | 1949-1961; 1992-Present †.
General Electric Co. (Ohio) | Cincinnati/Evendale | 1961-6/30/1970.
Herring-Hall Marvin Safe Co. | Hamilton | 1994-1995 †.
Oregon DOE Facilities
Uranium Mill and Disposal Cell in Lakeview | Lakeview | 1986-1989 †.
Pennsylvania DOE Facilities
Aliquippa Forge | Aliquippa | 1988 †; 1993-1994 †.
C.H. Schnorr & Company | Springdale | 1994 †.
Vitro Manufacturing (Canonsburg) | Canonsburg | 1983-1985 †; 1996 †.
South Dakota DOE Facilities
Ore Buying Station at Edgemont | Edgemont | 11/1952-7/12/1956.
Texas DOE Facilities
Uranium Mill in Falls City | Falls City | 1/1992-6/1994 †.
Utah DOE Facilities
Ore Buying Station at Marysvale | Marysvale | 3/1950-1957.
Ore Buying Station at Moab | Moab | 5/1954-1960.
Ore Buying Station at Monticello | Monticello | 1948-1962.
Ore Buying Station at White Canyon | White Canyon | 10/1954-1957.
Uranium Mill in Mexican Hat | Mexican Hat | 7/1987-10/1987 †; 9/1992-2/1995 †.
Uranium Mill in Moab (Atlas Site) | Moab | 2001-Present.
Uranium Mill in Monticello | Monticello | 1948-1960; 1983-2000 †.
Wyoming DOE Facilities
Ore Buying Station at Crooks Gap | Crooks Gap | 12/1956-7/1957.
Ore Buying Station at Riverton | Riverton | 3/1955-1957.
Uranium Mill in Converse County (Spook Site) | Converse County | 4/1989-9/1989 †.
Uranium Mill in Riverton | Riverton | 5/1988-9/1990 †.
† Denotes a period of environmental remediation.

Signed at Washington, DC, this 2nd day of April, 2013.
Gary A. Steinberg,
Acting Director, Office of Workers' Compensation Programs.

[FR Doc. 2013-08075 Filed 4-5-13; 8:45 am]

BILLING CODE 4510-CR-P